NATIONAL SCIENCE FOUNDATION

National Science Board; Committee on Education and Human Resources; Sunshine Act Meeting

date and time: April 21, 1 p.m.-2 p.m.

place: The National Science Foundation, Stafford II Building, Room 517, 4201 Wilson Boulevard, Arlington, VA 22230.

status: This meeting will be open to the public.

matters to be considered:

Wednesday, April 21, 2004

Open Session (1 p.m. to 2 p.m.)

Consideration of the Committee on Education and Human Resources' Broadening Participation in Science and Engineering Research and Education recommendations.

FOR FURTHER INFORMATION CONTACT: Jean Pomeroy, Senior Policy Analyst, NSB (703) 292-7000, http://www.nsf.gov/ndb.

Michael P. Crosby,
Executive Officer.

[FR Doc. 04-8337 Filed 4-8-04; 1:10 pm]

BILLING CODE 7555-01-M